FEDERAL COMMUNICATIONS COMMISSION

47 CFR Part 76

[CS Docket No. 00-2; FCC 02-287]

Implementation of the Satellite Home Viewer Improvement Act of 1999: Application of Network Non-Duplication, Syndicated Exclusivity, and Sports Blackout Rules to Satellite Retransmissions of Broadcast Signals; Correction

AGENCY: Federal Communications Commission.

ACTION: Final rule; correction.

SUMMARY: The Federal Communications Commission published in the Federal Register of November 14, 2002, a document concerning application of network non-duplication, syndicated exclusivity, and sports blackout rules to satellite retransmissions of broadcast signals. Inadvertently, the instruction that notifications given pursuant to § 76.127 must be received by the satellite carrier was inserted incorrectly. This document corrects that error.

DATES: Effective March 25, 2003. An announcement of effective date is published elsewhere in this issue of the Federal Register.

FOR FURTHER INFORMATION CONTACT: Peter Corea of the Policy Division, Media Bureau at (202) 418-7200, TTY (202) 418-7172, or via Internet at pcorea@fcc.gov.

SUPPLEMENTARY INFORMATION:

Correction

In rule FR Doc. 02-28894 published on November 14, 2002 (67 FR 68944), make the following corrections. On page 68951 in the second column, in the amendment to § 76.127, revise paragraph (c) as follows:

* * * * *

(c) Notifications given pursuant to this section must be received by the satellite carrier:

(1) With respect to regularly scheduled events, within forty-eight (48) hours after the time of the telecast to be deleted is known; or, for events that comprise a season or pre-season period, fifteen (15) days prior to the first event of the season or pre-season, respectively; and no later than the Monday preceding the calendar week (Sunday-Saturday) during which the program deletion is to be made.

(2) As to events not regularly scheduled and revisions of notices previously submitted, within twenty-four (24) hours after the time of the telecast to be deleted is known, but in any event no later than twenty-four (24) hours from the time the subject telecast is to take place.

* * * * *

List of Subjects in 47 CFR Part 76

Cable television, Satellite carriers, Television broadcast stations.

Federal Communications Commission.
Marlene H. Dortch,
Secretary.

[FR Doc. 03-6970 Filed 3-24-03; 8:45 am]

BILLING CODE 6712-01-P